CONSUMER PRODUCT SAFETY COMMISSION

16 CFR Part 1408

[Docket No. CPSC-2015-0033]

Petition for Labeling Requirements Regarding Slip Resistance of Floor Coverings; Request for Comments

AGENCY: Consumer Product Safety Commission.

ACTION: Notice of petition for rulemaking.

SUMMARY: The United States Consumer Product Safety Commission (“CPSC” or “Commission”) received a petition requesting that the Commission initiate rulemaking under the Consumer Product Safety Act (“CPSA”) to require that manufacturers of floor coverings, floor coverings with coatings, and treated floor coverings label their products' slip resistance in accordance with the applicable American National Standards Institute (“ANSI”) standard. The Commission invites written comments concerning the petition.

DATES: The Office of the Secretary must receive comments on the petition by February 1, 2016.

ADDRESSES: You may submit comments, identified by Docket No. CPSC-2015-0033, by any of the following methods:

Electronic Submissions: Submit electronic comments to the Federal eRulemaking Portal at: http://www.regulations.gov. Follow the instructions for submitting comments. The Commission does not accept comments submitted by electronic mail (email), except through www.regulations.gov. The Commission encourages you to submit electronic comments by using the Federal eRulemaking Portal, as described above.

Written Submissions: Submit written submissions by mail/hand delivery/courier to: Office of the Secretary, Consumer Product Safety Commission, Room 820, 4330 East West Highway, Bethesda, MD 20814; telephone (301) 504-7923.

Instructions: All submissions received must include the agency name and docket number for this proposed rulemaking. All comments received may be posted without change, including any personal identifiers, contact information, or other personal information provided, to: http://www.regulations.gov. Do not submit confidential business information, trade secret information, or other sensitive or protected information that you do not want to be available to the public. If furnished at all, such information should be submitted in writing.

Docket: For access to the docket to read background documents or comments received, go to: http://www.regulations.gov, and insert the docket number, CPSC-2015-0033, into the “Search” box, and follow the prompts. A copy of the petition is available at http://www.regulations.gov under Docket No. CPSC-2015-0033, Supporting and Related Materials.

FOR FURTHER INFORMATION CONTACT: Todd Stevenson, Office of the Secretary, U.S. Consumer Product Safety Commission, Room 820, 4330 East West Highway, Bethesda, MD 20814; telephone (301) 504-6833.

SUPPLEMENTARY INFORMATION: The Commission received a petition requesting that manufacturers of floor coverings, floor coverings with coatings, and treated floor coverings (herein abbreviated as “floor coverings”) be required to label their products to provide point-of-sale information regarding such products' degree of slip resistance, in accordance with the labeling requirements of ANSI B101.5-2014.¹ Specifically, petitioner requests a rule that would require a label indicating the slip resistance (also known as “coefficient of friction” or “COF”) for floor coverings based on tests described in ANSI B101.1 and B101.3. The required label would provide a graphic of a traction scale and indicate the COF value for the product.

¹ The petition does not apply to floor coatings, such as waxes, that are sold separately or to coverings such as carpets, rugs, mats, runners or artificial turf.

The petition was filed by the National Floor Safety Institute. Petitioner notes that manufacturers of floor coverings currently are not required to provide consumers with information relating to slip resistance of their products. Petitioner asserts that because different types of floor coverings have pronounced differences in slip resistance, many flooring materials will be inappropriate for specific uses. Petitioner states that the primary focus of the petition is to protect the elderly, a population petitioner believes to be most vulnerable to the risk of slip and fall events. As an example, petitioner cites that in 2014, more than 23,000 elderly Americans died as a result of accidental falls. Furthermore, petitioner notes that the CDC stated that in 2013, the direct medical costs of older adult falls was approximately $34 billion.

Petitioner states that slip resistance labeling would be analogous to the requirements for labeling nutritional content in food, noting that labeling regarding flooring slip resistance would allow consumers to make more informed decisions when selecting a flooring product, enabling elderly consumers to select flooring that offers higher slip resistance, potentially reducing the risk of accidental slip and fall events.

By this notice, the Commission seeks comments concerning this petition. Interested parties may obtain a copy of the petition by writing or calling the Office of the Secretary, U.S. Consumer Product Safety Commission, Room 820, 4330 East West Highway, Bethesda, MD 20814; telephone (301) 504-7923. A copy of the petition is also available for viewing under “Supporting and Related Materials” in www.regulations.gov, under Docket No. CPSC-2015-0033.

Dated: November 25, 2015.
Todd A. Stevenson,
Secretary, U.S. Consumer Product Safety Commission.

[FR Doc. 2015-30440 Filed 12-2-15; 8:45 am]

BILLING CODE 6355-01-P